DEPARTMENT OF DEFENSE

Office of the Secretary

[Docket ID: DoD-2008-OS-0104]

Privacy Act of 1974; System of Records

AGENCY: Office of the Secretary of Defense, DoD.

ACTION: Notice to add a system of records.

SUMMARY: The Office of the Secretary of Defense proposes to add a system of records to its inventory of record systems subject to the Privacy Act of 1974 (5 U.S.C. 552a), as amended.

DATES: This proposed action would be effective without further notice on October 14, 2008, unless comments are received which result in a contrary determination.

ADDRESSES: Send comments to Chief, OSD/JS Privacy Office, Freedom of Information Directorate, Washington Headquarters Services, 1155 Defense Pentagon, Washington, DC 20301-1155.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on September 2, 2008, to the House Committee on Oversight and Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 3, 2008.
Patricia L. Toppings,
OSD Federal Register Liaison Officer, Department of Defense.

DHRA 07

SYSTEM NAME:

National Language Service Corps Pilot Records.

SYSTEM LOCATION:

National Security Education Program, 1101 Wilson Blvd, Suite 1210, Arlington VA 22209-2248.

CATEGORIES OF INDIVIDUALS COVERED BY THE SYSTEM:

Individuals who participate in the National Language Service Corps pilot program.

CATEGORIES OF RECORDS IN THE SYSTEM:

Individual's name, date of birth, foreign language(s) spoken, foreign language proficiency levels, English proficiency levels, home address, city, state, e-mail address, telephone number, and education level.

AUTHORITY FOR MAINTENANCE OF THE SYSTEM:

5 U.S.C. 301, Departmental Regulations; 10 U.S.C. 131, Office of the Secretary of Defense; DoD Directive 5124.2, Under Secretary of Defense for Personnel and Readiness; and 50 U.S.C. 403-1b (note), War and National Defense.

PURPOSE(S):

To allow U.S. citizens with language and special skills to self-identify these skills for the purpose of temporary employment on an intermittent work schedule or service opportunities in the Federal or State government during periods of national need or emergency. The information will be used to identify and contact NLSC Charter Members in times of need.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To federal government agencies requesting emergency language support to facilitate U.S. efforts on the war on terrorism or in furtherance of national security objectives.

The DoD ‘Blanket Routine Uses’ set forth at the beginning of OSD's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

By individual's name or home address.

SAFEGUARDS:

Access to personal information is restricted to NLSC employees who require the records in the performance of their official duties. Access to personal information is further restricted by the use of passwords that are changed periodically. Physical entry is restricted by the use of locks, guards at the facility hosting the web portal, and administrative procedures.

RETENTION AND DISPOSAL:

Disposition pending (until the National Archives and Records Administration have approved the retention and disposition of these records): treat records as permanent.

SYSTEM MANAGER(S) AND ADDRESSES:

Director, National Security Education Program, 1101 Wilson Blvd, Suite 1210, Arlington, VA 22209-2248.

NOTIFICATION PROCEDURE:

Individuals seeking to determine whether information about themselves is contained in this system should address written inquiries to the OSD/JS FOIA Requester Service Center, Office of Freedom of Information, 1155 Defense Pentagon, Washington, DC 20301-1155.

Written requests should contain the full name, current home address, and signature, along with the ID number of this system of record notice.

RECORD ACCESS PROCEDURES:

Individuals seeking access to records about themselves contained in this system of records should address written inquiries to the OSD/JS FOIA Requester Service Center, Office of Freedom of Information, 1155 Defense Pentagon, Washington, DC 20301-1155.

Written requests should contain the full name, current home address, and signature, along with the ID number of this system of record notice.

CONTESTING RECORD PROCEDURES:

The OSD rules for accessing records, for contesting contents and appealing initial agency determinations are contained in OSD Administrative Instruction 81; 32 CFR part 311; or may be obtained from the system manager.

RECORD SOURCE CATEGORIES:

Individuals.

EXEMPTIONS CLAIMED FOR THE SYSTEM:

None.

[FR Doc. E8-21106 Filed 9-10-08; 8:45 am]

BILLING CODE 5001-06-P